FEDERAL RESERVE SYSTEM

Government in the Sunshine; Meeting Notice

Agency Holding the Meeting: Board of Governors of the Federal Reserve System.

Previously Announced Time and Date of the Meeting: 10 a.m. on Monday, July 14, 2008.

Changes in the Meeting: The discussion agenda title has changed from:

Final Amendments to Regulation Z (Truth in Lending) to the new title of:

Final Amendments to Regulation Z (Truth in Lending) Relating to Mortgage Lending and Proposed Conforming Amendments to Regulation C (Home Mortgage Disclosure).

FOR MORE INFORMATION PLEASE CONTACT: Michelle Smith, Director, or Dave Skidmore, Assistant to the Board, Office of Board Members at 202-452-2955.

SUPPLEMENTARY INFORMATION: You may call 202-452-3206 for a recorded announcement of this meeting; or you may contact the Board's Web site at http://www.federalreserve.gov for an electronic announcement. (The Web site also includes procedural and other information about the open meeting.)

Dated: July 8, 2008.
Robert deV. Frierson,
Deputy Secretary of the Board.

[FR Doc. 08-1429 Filed 7-9-08; 8:45 am]

BILLING CODE 6210-01-P